DEPARTMENT OF HEALTH AND HUMAN SERVICES

Centers for Disease Control and Prevention

[30Day-09-08BS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Testing and Development of Materials Promoting Prevention and Control of Traumatic Brain Injury in Schools—New—Division of Injury Response (DIR), National Center for Injury Prevention and Control (NCIPC), Centers for Disease Control and Prevention (CDC).

Background and Brief Description

Each year, an estimated 1.4 million Americans sustain a traumatic brain injury (TBI). A TBI is caused by a bump, blow, or jolt to the head or a penetrating head injury that disrupts the normal function of the brain.

Children ages 0 to 4 years and adolescents ages 15-19 are at the greatest risk of sustaining a TBI, as they often sustain TBIs from a host of mechanisms including falls (down stairs or from heights such as counter tops or beds), direct impacts (e.g., getting hit in the head with a ball), and motor vehicle crashes.

In order to address this important public health problem among young children and adolescents, CDC plans to conduct a national TBI educational initiative aimed at school nurses, school counselors, school psychologists, and school administrators. These interviews will be targeted because they are well positioned to address short- and long-term issues related to TBI. CDC will develop educational materials and messages for these audiences, as well as tools for partners, to help improve the prevention, recognition, and management of TBI among school-aged children and adolescents. This audience can also work with schools to institute TBI specific back-to-school and return-to-play plans.

As part of this research, school nurses, counselors, psychologists, and administrators will participate in professionally moderated individual in-depth interviews. Information will be collected concerning respondents' knowledge, attitudes, and beliefs about traumatic brain injury and where and how they get health information.

A total of 96 potential respondents will be screened. From this number, 30 school professionals and 15 school administrators will be interviewed.

The goal of these interviews is to understand needs of school professionals in the targeted audience for materials or tools related to TBI. The materials will provide guidance on how to prevent and recognize TBI in students. The content discussed in these interviews will be used to refine materials and develop future materials.

There are no costs to respondents other than their time. The total estimated annual burden hours are 61.

Estimated Annualized Burden Hours
Type of respondents | Form name | Number of respondents | Number of responses per respondent | Average burden per response (in hours)
School nurses, counselors, psychologists, and school administrators | Screener Instrument for Nurses, Counselors, Psychologists, and Administrators | 96 | 1 | 10/60
School nurses, counselors, and psychologists | Interview Guide: Concept Testing for TBI Education Materials (Interviews with School Health Professionals) | 30 | 1 | 1
School administrators | Moderator's Guide for In-Depth Interviews for Administrators | 15 | 1 | 1

Dated: January 29, 2009.
Maryam I. Daneshvar,
Acting Reports Clearance Officer, Centers for Disease Control and Prevention.

[FR Doc. E9-2443 Filed 2-4-09; 8:45 am]

BILLING CODE 4163-18-P